EXPORT-IMPORT BANK

[Public Notice 2016-6026]

Agency Information Collection Activities: Comment Request

AGENCY: Export-Import Bank of the U.S.

ACTION: Submission for OMB review and comments request.

Form Title: EIB 92-29 Export-Import Bank Report of Premiums Payable for Exporters Only.

SUMMARY: The Export-Import Bank of the United States (Ex-Im Bank), as part of its continuing effort to reduce paperwork and respondent burden, invites the general public and other Federal Agencies to comment on the proposed information collection, as required by the paperwork Reduction Act of 1995.

The Export Import Bank of the United States, pursuant to the Export Import Bank Act of 1945, as amended (12 U.S.C. 635, et seq.), facilitates the finance of the export of U.S. goods and services. The “Report of Premiums Payable for Exporters Only” form will be used by exporters to report and pay premiums on insured shipments to various foreign buyers.

The application can be viewed at: http://exim.gov/sites/default/files/pub/pending/eib92-29.pdf.

DATES: Comments should be received on or before December 27, 2016 to be assured of consideration.

ADDRESSES: Comments may be submitted electronically on WWW.REGULATIONS.GOV or by mail to Michele Kuester, Export-Import Bank of the United States, 811 Vermont Ave. NW., Washington, DC 20571.

SUPPLEMENTARY INFORMATION:

Titles and Form Number: EIB 92-29 Report of Premiums Payable for Exporters Only.

OMB Number: 3048-0017.

Type of Review: Regular.

Need and Use: The “Report of Premiums Payable for Exporters Only” form is used by exporters to report and pay premiums on insured shipments to various foreign buyers under the terms of the policy and to certify that premiums have been correctly computed and remitted. The “Report of Premiums Payable for Exporters Only” is used by EXIM to determine the eligibility of the shipment(s) and to calculate the premium due to EXIM Bank for its support of the shipment(s) under its insurance program.

Affected Public: This form affects entities involved in the export of U.S. goods and services.

Annual Number of Respondents: 2,200.

Estimated Time per Respondent: 15 minutes.

Annual Burden Hours: 6,600 hours.

Frequency of Reporting or Use: Monthly.

Government Expenses:

Reviewing Time per Year: 6,600 hours.

Average Wages per Hour: $42.50.

Average Cost per Year: $280,500 (time * wages).

Benefits and Overhead: 20%.

Total Government Cost: $336,600.

Bassam Doughman,
IT Program Manager, Office of the Chief Information Officer.

[FR Doc. 2016-25789 Filed 10-25-16; 8:45 am]

BILLING CODE 6690-01-P